DEPARTMENT OF TRANSPORTATION

Federal Aviation Administration

14 CFR Part 13

[Docket No.: FAA-2017-1051; Notice No. 10-86]

RIN 2120-AL00

Update to Investigative and Enforcement Procedures; Correction

AGENCY: Federal Aviation Administration (FAA), DOT.

ACTION: Notice of proposed rulemaking (NPRM); correction.

SUMMARY: The FAA is correcting an NPRM published on February 12, 2019. In that document, the FAA proposed to amend its regulations to the procedural rules governing Federal Aviation Administration investigations and enforcement actions. This document corrects two errors in the FOR FURTHER INFORMATION CONTACT section of that document and one error in the footnote of the “Subpart A—General Authority To Re-Delegate and Investigative Procedures” section of that document.

DATES: The comment period for the proposed rule published February 12, 2019, at will close May 13, 2019.

FOR FURTHER INFORMATION CONTACT: For questions concerning this action regarding 14 CFR part 13, subparts A through C, E, and F, contact Jessica E. Kabaz-Gomez, Office of the Chief Counsel, AGC-300, Federal Aviation Administration, 800 Independence Avenue SW, Washington, DC 20591; telephone (202) 267-7395; email Jessica.Kabaz-Gomez@faa.gov, or Cole R. Milliard, Office of the Chief Counsel, AGC-300, Federal Aviation Administration, 800 Independence Avenue SW, Washington, DC 20591; telephone (202) 267-3452; email Cole.Milliard@faa.gov. For questions concerning this action regarding 14 CFR part 13, subpart D and G, contact John A. Dietrich, Office of the Chief Counsel, FAA Office of Adjudication, AGC-70, Federal Aviation Administration, 800 Independence Avenue SW, Washington, DC 20591; telephone (202) 267-3433; email John.A.Dietrich@faa.gov. For questions concerning this action regarding 14 CFR part 13, subpart G, you may also contact Marie Collins, Office of the Chief Counsel, Office of Adjudication, AGC-70, 800 Independence Avenue SW, Washington, DC 20591; telephone (202) 267-3522; email: marie.collins@faa.gov.

SUPPLEMENTARY INFORMATION:

Background

On February 12, 2019, the FAA published an NPRM entitled, “Update to Investigative and Enforcement Procedures” (84 FR 3614).

In that NPRM the FAA proposed to amend its regulations to the procedural rules governing Federal Aviation Administration investigations and enforcement actions. The proposed revisions include updates to statutory and regulatory references, updates to agency organizational structure, elimination of inconsistencies, clarification of ambiguity, increases in efficiency, and improved readability.

In the NPRM, the incorrect attorney is listed as the contact person for subpart G and another attorney was not identified as additional contact person for subpart G. The footnote discussing the proposed changes to 14 CFR 13.1 incorrectly identifies a FAA Order. This document corrects these errors to accurately reflect the contact information for questions concerning 14 CFR part 13, subpart G and the FAA Order referenced.

Correction

In FR Doc. 2019-00771, Vol. 84, No. 29, beginning on page 3614 in the Federal Register of February 12, 2019, make the following corrections:

1. On page 3614, in the second column, in the first paragraph under FOR FURTHER INFORMATION CONTACT correct “For questions concerning this action regarding 14 CFR part 13, subpart D, contact John A. Dietrich” to read “For questions concerning this action regarding 14 CFR part 13, subpart D and G, contact John A. Dietrich” and correct “For questions concerning this action regarding 14 CFR part 13, subpart G, contact Vicki S. Leemon, Office of the Chief Counsel, Office of Adjudication, AGC-70, 800 Independence Avenue SW, Washington, DC 20591; telephone (202) 267-0415; email: vicki.leemon@faa.gov” to read “For questions concerning this action regarding 14 CFR part 13, subpart G, you may also contact Marie Collins, Office of the Chief Counsel, Office of Adjudication, AGC-70, 800 Independence Avenue SW, Washington, DC 20591; telephone (202) 267-3522; email: marie.collins@faa.gov.”

2. On Page 3617, in the first column, in the footnotes, correct “FAA Order 1150.154A” to read FAA Order 1100.154A”.

Issued On: March 4, 2019.
Lirio Liu,
Executive Director, Office of Rulemaking.

[FR Doc. 2019-04658 Filed 3-15-19; 8:45 am]

BILLING CODE 4910-13-P